NATIONAL AERONAUTICS AND SPACE ADMINISTRATION

[Notice: 19-051]

Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held for the purpose of soliciting, from the scientific community and other persons, scientific and technical information relevant to program planning.

DATES: Monday, September 23, 2019, 8:30 a.m. to 5:00 p.m., and Tuesday, September 24, 2019, 8:30 a.m. to 5:00 p.m., Local Time.

ADDRESSES: NASA Headquarters, Room 3D42, 300 E Street SW, Washington, DC 20546.

FOR FURTHER INFORMATION CONTACT: Ms. Karshelia Henderson, Science Mission Directorate, NASA Headquarters, Washington, DC 20546, (202) 358-2355, fax (202) 358-2779, or khenderson@nasa.gov.

SUPPLEMENTARY INFORMATION: The meeting will be open to the public up to the capacity of the room. The meeting will be available telephonically and by WebEx. Any interested person may call the USA toll free conference call number 1-800-779-9966, passcode 5255996, on both days, to participate in this meeting by telephone. A toll number also is available, 1-517-645-6359, passcode 5255996, on both days. The WebEx link is https://nasaenterprise.webex.com/; the meeting number on September 23 is 904 816 731 and the password is PAC@Sept23 (case sensitive), and the meeting number on September 24 is 903 388 535 and the password is PAC@Sept24 (case sensitive).

The agenda for the meeting includes the following topics:

—Planetary Science Division Update

—Planetary Science Division Research and Analysis Program Update

Attendees will be requested to sign a register and to comply with NASA Headquarters security requirements, including the presentation of a valid picture ID to Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, U.S. citizens and Permanent Residents (green card holders) are requested to provide full name and citizenship status no less than 3 working days in advance. Information should be sent to Ms. Karshelia Henderson, via email at khenderson@nasa.gov or by fax at (202) 358-2779. It is imperative that the meeting be held on these dates to accommodate the scheduling priorities of the key participants.

Nanette Smith,
NASA Federal Register Liaison Officer.

[FR Doc. 2019-19467 Filed 9-9-19; 8:45 am]

BILLING CODE 7510-13-P